ENVIRONMENTAL PROTECTION AGENCY

[FRL-9776-1]

Office of Environmental Information; Announcement of Availability and Comment Period for the Draft Quality Standard for Environmental Data Collection, Production, and Use by Non-EPA (External) Organizations and Two Associated QA Handbooks; Extension of Comment Period

AGENCY: Environmental Protection Agency (EPA).

ACTION: Notice; extension of comment period.

SUMMARY: The Environmental Protection Agency published a document in the Federal Register of December 26, 2012, concerning request for comments for the Draft Quality Standard for Environmental Data Collection, Production, and Use by Non-EPA (External) Organizations and two associated QA Handbooks. The notice of availability is being extended to a 62 day review and comment period to provide more time for external reviewers to provide comments. This document extends the comment period for 17 days, from February 11, 2013, to February 28, 2013.

DATES: Comments must be submitted on or before February 11, 2013.

FOR FURTHER INFORMATION CONTACT: John Warren, Environmental Protection Agency, 1200 Pennsylvania Avenue, MC 2811R, Washington, DC 20460; Phone: 202-564-6876; email address: quality@epa.gov.

Dated: January 29, 2013.
Monica D. Jones,
Director, Quality Staff.

[FR Doc. 2013-02378 Filed 2-1-13; 8:45 am]

BILLING CODE 6560-50-P